ENVIRONMENTAL PROTECTION AGENCY

[FRL -7528-2]

Science Advisory Board; Notification of an Upcoming Meeting of the Multimedia, Multipathway, and Multireceptor Risk Assessment; (3MRA) Modeling System Panel

AGENCY: Environmental Protection Agency (EPA).

ACTION: Notice.

SUMMARY: The Environmental Protection Agency (EPA) Science Advisory Board Staff Office (SAB) announces an upcoming teleconference meeting of the Multimedia, Multipathway, and Multireceptor Risk Assessment (3MRA) Modeling System Panel at which the Panel will plan its review.

DATES: The teleconference meeting will take place on July 21, 2003 from 1 p.m. to 4 p.m. (Eastern Time).

ADDRESSES: Participation in the teleconference will be by telephone only.

FOR FURTHER INFORMATION CONTACT: To obtain the call-in number and access code required to participate in the teleconference, contact Ms. Sandra Friedman, EPA Science Advisory Board Staff, at (202) 564-2526 or via e-mail at friedman.sandra@epa.gov. Those wishing further information about the Panel may contact Ms. Kathleen White, Designated Federal Officer (DFO), EPA Science Advisory Board at (202) 564-4559 or via e-mail at white.kathleen@epa.gov. General information concerning the EPA Science Advisory Board can be found on the SAB Web site at: http://www.epa.gov/sab.

SUPPLEMENTARY INFORMATION: Background: Pursuant to the Federal Advisory Committee Act, Public Law 92-463, notice is hereby given that the Multimedia, Multipathway, and Multireceptor Risk Assessment (3MRA) Modeling System Panel of the U.S. EPA Science Advisory Board (SAB) will meet to plan its review of EPA's Multimedia, Multipathway, and Multireceptor Risk Assessment (3MRA) Modeling System.

The panel was charged with responding to questions concerning the modeling system. These questions were published in a Federal Register Notice on April 11, 2003 (68 FR 17797-17800). More information regarding this review can be found at the SAB Web site at http://www.epa.gov/sab/panels/3mramspanel.html. The review documents provide and background information will be made available at http://www.epa.gov/epaoswer/hazwaste/id/hwirwste/risk.htm when they become available.

Individuals who are unable to access the documents electronically may contact Mr. Stephen Kroner of the Office of Solid Waste at 703 308-0468 or via e-mail at kroner.stephen@epa.gov to make other arrangements. A very limited number of paper copies can be made available in special circumstances.

The purpose of this meeting is to allow contemporaneous public access to the Panel's introduction to the review, discussion of the charge, and preliminary organization for the review. Most of the review will be conducted at two face-to-face meetings currently planned for late August and late October, 2003. A copy of the draft agenda for the Teleconference will be posted on the SAB Web site (www.epa.gov/sab) (under the AGENDAS subheading) approximately 7 days before the meeting.

Providing Oral or Written Comments at SAB Meetings: It is the policy of the EPA Science Advisory Board (SAB) to accept written public comments of any length, and to accommodate oral public comments whenever possible. The EPA SAB expects that public statements presented at its meetings will not be repetitive of previously submitted oral or written statements.

Oral Comments: In general, each individual or group requesting an oral presentation at a face-to-face meeting will be limited to a total time of ten minutes (unless otherwise indicated) and no more than one hour total for all speakers. For teleconference meetings, opportunities for oral comment will usually be limited to no more than two minutes per speaker and no more than ten minutes total for all speakers. Interested parties should contact the DFO at least one week prior to the meeting in order to be placed on the public speaker list for the meeting. Speakers may attend the meeting and provide comment up to the meeting time. Speakers should bring at least 35 copies of their comments and presentation slides for distribution to the reviewers and public at the meeting.

Written Comments: Although the SAB accepts written comments until the date of the meeting (unless otherwise stated), written comments should be received in the SAB Staff Office at least one week prior to the meeting date so that the comments may be made available to the review panel for their consideration. Comments should be supplied to the DFO at the address/contact information noted in the opening of this notice in the following formats: one hard copy with original signature, and one electronic copy via e-mail (acceptable file format: Adobe Acrobat, WordPerfect, Word, or Rich Text files (in IBM-PC/Windows 95/98 format). Those providing written comments and who attend the meeting are also asked to bring 35 copies of their comments for public distribution. Should comment be provided at the meeting and not in advance of the meeting, they should be in-hand to the DFO up to and immediately following the meeting. The SAB allows a grace period of 48 hours after adjournment of the public meeting to provide written comments supporting any verbal comments stated at the public meeting to be made a part of the public record.

Meeting Access: Individuals requiring special accommodation at this meeting, including wheelchair access to the conference room, should contact Ms. Sandra Friedman, friedman.sandra@epa.gov or by telephone/voice mail at (202) 564-2526 at least five business days prior to the meeting date so that appropriate arrangements can be made.

Dated: July 9, 2003.
Vanessa T. Vu,
Director, EPA Science Advisory Board.

[FR Doc. 03-18004 Filed 7-15-03; 8:45 am]

BILLING CODE 6560-50-P